OVERSEAS PRIVATE INVESTMENT CORPORATION

Sunshine Act Cancellation Notice—OPIC'S March 8, 2018 Annual Public Hearing

OPIC's Sunshine Act notice of its Annual Public Hearing was published in the Federal Register (Volume 83, Number 13, Page 2823) on January 19, 2018. No requests were received to provide testimony or submit written statements for the record; therefore, OPIC's Annual Public Hearing scheduled for 10 a.m., March 8, 2018 has been cancelled.

CONTACT PERSON FOR INFORMATION: Information on the hearing cancellation may be obtained from Catherine F.I. Andrade at (202) 336-8768, or via email at Catherine.Andrade@opic.gov.

Dated: February 22, 2018.
Catherine F.I. Andrade,
OPIC Corporate Secretary.

[FR Doc. 2018-04037 Filed 2-23-18; 11:15 am]

BILLING CODE 3210-01-P